DEPARTMENT OF COMMERCE

International Trade Administration

[A-570-924]

Polyethylene Terephthalate Film, Sheet, and Strip From the People's Republic of China: Rescission of Antidumping Duty New Shipper Review

AGENCY: Enforcement and Compliance, International Trade Administration, Department of Commerce.

SUMMARY: In response to a request from Now Plastics, Inc. (“Now Plastics”) and its affiliate Huangshi Yucheng Trade Co., Ltd. (“Huangshi Yucheng”) (collectively “Requestor”), the Department of Commerce (“the Department”) initiated a new shipper review of the antidumping duty order on polyethylene terephthalate film, sheet, and strip from the People's Republic of China (“PRC”) covering the period November 1, 2012 through March 31, 2013.¹ On February 4, 2014, Requestor timely withdrew its request for a new shipper review. Accordingly, the Department is rescinding the new shipper review with respect to Requestor.²

¹ See Polyethylene Terephthalate Film, Sheet, and Strip From the People's Republic of China: Initiation of Antidumping Duty New Shipper Review, 78 FR 79400 (December 30, 2013).

² See Letter from Requestor to the Secretary of Commerce “Polyethylene Terephthalate (PET) Film from the People's Republic of China; A-570-924; Withdrawal of Request for New Shipper Review of Exports by Huangshi Yucheng Trade Co.,” dated February 4, 2014.

DATES: June 10, 2014.

FOR FURTHER INFORMATION CONTACT: Howard Smith or Jonathan Hill, AD/CVD Operations, Office IV, Enforcement & Compliance, International Trade Administration, Department of Commerce, 14th Street and Constitution Avenue NW., Washington, DC 20230; telephone: (202) 482-5193 or (202) 482-3518, respectively.

SUPPLEMENTARY INFORMATION:

Rescission of New Shipper Review

On December 30, 2013, the Department initiated a new shipper review of Requestor, and on February 4, 2014, Requestor withdrew its new shipper review request. 19 CFR 351.214(f)(1) provides that, the Department may rescind a new shipper review if the party that requested the review withdraws its request for review within 60 days of the date of publication of the notice of initiation of the requested review. Given that Requestor timely withdrew its request for a new shipper review, the Department is rescinding the new shipper review of the antidumping duty order on polyethylene terephthalate film, sheet, and strip from the PRC with respect to Requestor. Consequently, Requestor will remain part of the PRC-wide entity.

Assessment

Requestor remains under review in the ongoing administrative review covering the 2012-2013 period of review (POR) as part of the PRC-wide entity.³ Therefore, the Department will not order liquidation of entries for Requestor. The Department intends to issue liquidation instructions for the PRC-wide entity, which will cover any entries by Requestor, 15 days after publication of the final results of the ongoing administrative review covering the 2012-2013 POR.

³ See Initiation of Antidumping and Countervailing Duty Administrative Reviews and Request for Revocation in Part, 78 FR 79392 (December 30, 2013).

Cash Deposit

The Department will notify U.S. Customs and Border Protection (“CBP”) that bonding is no longer permitted to fulfill security requirements for subject merchandise produced and exported by Requestor that is entered, or withdrawn from warehouse, for consumption in the United States on or after the publication of this rescission notice in the Federal Register. The Department will notify CBP that a cash deposit of 76.72 percent should be collected for all shipments of subject merchandise by Requestor entered, or withdrawn from warehouse, for consumption in the United States on or after the publication of this rescission notice.

Notifications to Interested Parties

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties. This notice also serves as a reminder to parties subject to administrative protective order (“APO”) of their responsibility concerning the return or destruction of proprietary information disclosed under APO in accordance with 19 CFR 351.305(a). Timely written notification of the return or destruction of APO materials, or conversion to judicial protective order, is hereby requested. Failure to comply with the regulations and terms of an APO is a violation which is subject to sanction.

We are issuing and publishing this rescission and notice in accordance with sections 751(a)(2)(B) and 777(i) of the Act and 19 CFR 351.214(f)(3).

Dated: June 2, 2013.
Christian Marsh,
Deputy Assistant Secretary for Antidumping and Countervailing Duty Operations.

[FR Doc. 2014-13512 Filed 6-9-14; 8:45 am]

BILLING CODE 3510-DS-P